DEPARTMENT OF LABOR

Employment and Training Administration

[TA-W-58,445]

Christiana Floral, Inc., Christiana, PA; Dismissal of Application for Reconsideration

Pursuant to 29 CFR 90.18(C) an application for administrative reconsideration was filed with the Director of the Division of Trade Adjustment Assistance for workers at Christiana Floral, Inc., Christiana, Pennsylvania. The application did not contain new information supporting a conclusion that the determination was erroneous, and also did not provide a justification for reconsideration of the determination that was based on either mistaken facts or a misinterpretation of facts or of the law. Therefore, dismissal of the application was issued.

TA-W-58,445; Christiana Floral, Inc., Christiana, Pennsylvania, (April 26, 2006)

Signed at Washington, DC, this 1st day of May, 2006.
Erica R. Cantor,
Director, Division of Trade Adjustment Assistance.

[FR Doc. E6-7117 Filed 5-9-06; 8:45 am]

BILLING CODE 4510-30-P